DEPARTMENT OF AGRICULTURE

Submission for OMB Review; Comment Request

May 29, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: 7 CFR 1965-A, Servicing of Real Estate Security for Farmer Program Loans and Certain Note-Only Cases.

OMB Control Number: 056-0158.

Summary of Collection: The Farm Service Agency's (FSA) Farm Loan Program (FLP) provides supervised credit in the form of loans to family farmers and ranchers to purchase land and finance agricultural production. This regulation is promulgated to implement selected provisions of sections 331 and 335 of the Consolidated Farm and Rural Development Act. Section 331 authorizes the Secretary of Agriculture to grant releases from personal liability where security property is transferred to approved applicants, to permits partial releases and subordinations of mortgages subject to certain conditions, and to consents to leases of security and transfers of security property. Section 335 provides servicing authority for real estate security, operation or lease or realty, disposition of surplus property, conveyance of complete interest of the United States, easement, and condemnation.

Need and Use of the Information: Information is usually provided through the use of several forms that relates to a program benefit recipient or land borrower requesting action on security that they own, purchased and improved with FSA loan funds or otherwise mortgaged to the Agency to secure a government loan. The Farm Loan Program uses this regulation to prescribes policies and procedures for servicing real estate, leaseholds, and certain note-only security for FSA farm loans. Servicing will be carried out in accordance with the security instruments and related agreements, including any authorized modifications, provided the borrower has: (a) A reasonable prospect of accomplishing the loan objectives, (b) properly maintains and accounts for the security, and (c) otherwise meets the loan obligation.

Description of Respondents: Farms; Individuals or households; Business or other for-profit.

Number of Respondents: 14,080.

Frequency of Responses: Reporting: On occasion; Annually.

Total Burden Hours: 6,753.

Animal and Plant Health Inspection Service

Title: Phytosanitary Export Certification.

OMB Control Number: 0579-0052.

Summary of Collection: The United States Department of Agriculture (USDA), Animal & Plant Health Inspection Service (APHIS) is responsible for preventing plant diseases, spread of pests not widely distributed in the United States and insect pests from entering the United States, and when feasible eradicating those imported pests. APHIS provides export certification services to assure other countries that the plants and plant products they are receiving from the United States are free of prohibited (or regulated) plant diseases and insect pests.

Need and Use of the Information: APHIS will use the information collected to locate shipments, guide inspection, and issue a certificate to meet the requirements of the importing country. Lack of the information would make it impossible for APHIS to issue a phytosanitary certificate to meet the importing country's requirements.

Description of Respondents: Business or other for-profit; Farm; Individual or households; Not-for-profit institutions; Federal Government; State, Local or Tribal Government.

Number of Respondents: 16,437.

Frequency of Responses: Recordkeeping; Reporting: On occasion.

Total Burden Hours: 539,681.

Agricultural Marketing Service

Title: Tobacco Reports.

OMB Control Number: 0581-0004.

Summary of Collection: The authority for the collection of information on form TB-26, Tobacco Stocks Report, is Public Law No. 661, known as the Tobacco Statistics Act (7 U.S.C. 501-508) enacted in 1929. The Act directs the Secretary of Agriculture to collect statistics on the quantities of leaf tobacco held by dealers and manufacturers in the United States and Puerto Rico. The TB-26, Tobacco Stocks Report, provides information on the total supply of un-manufactured tobacco available to domestic manufacturers and is used to calculate the amount consumed in manufactured tobacco products.

Need and Use of the Information: The data collected is used by the Agricultural Marketing staff to monitor the size, growth, or decline of the market and is required for the calculation of production quotas for individual types of tobacco under the Agricultural Adjustment Act of 1938. Without the information, the Department would not be able to provide marketing information as directed by the Act.

Description of Respondents: Business or other for-profit.

Number of Respondents: 76.

Frequency of Responses: Reporting: Quarterly.

Total Burden Hours: 278.

Agricultural Marketing Service

Title: Almonds Grown in California, Marketing Order 981.

OMB Control Number: 0581-0071.

Summary of Collection: Marketing Order 981 (CFR Part 981), regulates the handling of almonds grown in California and emanates from enabling legislation the Agricultural Marketing Agreement Act of 1937 (Secs. 1-19, 48 Stats. 31, as amended; 7 U.S.C. 601-674). This legislation was designed to permit regulation of certain agricultural commodities for the purpose of providing orderly marketing conditions in interstate commerce and improving returns to growers. The Order authorizes the issuance of quality and volume control regulations, the establishment of production and marketing research, as well as inspection and reporting requirements. California accounts for all of the U.S. almond production, approximately 70% of which is exported.

Need and Use of the Information: Information is collected from various forms and reviewed by the Board. These forms are convenient for people who are required to file information with the Board relating to almond supplies, shipments, dispositions, and other information needed to effectively carry out the purposes of the Act and the Order. The information collected is used for publishing of industry statistics, program compliance, to determine industry support for programs or changes and determine qualifications.

Description of Respondents: Business or other for-profit; Farms.

Number of Respondents: 7,150.

Frequency of Responses: Recordkeeping; Reporting: On occasion, Monthly, Other.

Total Burden Hours: 2,638.

Agricultural Marketing Service

Title: National Research, Promotion, and Consumer Information Programs.

OMB Control Number: 0581-0093.

Summary of Collection: In the Federal Agricultural Improvement and Reform Act of 1996 (Public Law 104-127, signed April 4, 1996), Congress authorized the Commodity Promotion, Research, and Information Act of 1996, 7 U.S.C. 7401-7425; hereinafter, referred to as the Act. This Act authorizes the establishment and operation of generic promotion programs, which may include a combination of promotion, research, industry information, and consumer information activities funded by mandatory assessments, and designed to maintain or expand markets and uses for U.S. produced commodities. The American Farm Bureau Federation, working in cooperation with 20 states and regional peanut industry organizations representing the 9 major peanut-producing states, has required the establishment of a Peanut Promotion, Research, and Information Order (Order) pursuant to the Act. The Peanut Program will be financed through assessments on peanut producers and will be administered by a 10-member National Peanut Board (Board) appointed by the Secretary of Agriculture for nominations submitted by the peanut industry.

Need and Use of the Information: Agricultural Marketing Service will collect information on the monthly detailed listing of each handler's transactions and the name of applicant, mailing address (handler and producer(s)), name and address of business or operation (handler), telephone number, facsimile number, identification number (collecting handler), period of report, date of last report, and date of application. The Board needs the information on the report to (1) comply with section 517 of the Act and (2) provide the necessary accounting documentation for assessment collection during the monthly reporting period.

Description of Respondents: Business or other for-profit; Farm; Federal Government.

Number of Respondents: 344,342.

Frequency of Responses: Recordkeeping; Reporting: Annually.

Total Burden Hours: 368,514.

Agricultural Marketing Service

Title: Regulations Governing the Voluntary Grading of Shell Eggs.

OMB Control Number: 0581-0128.

Summary of Collection: The Agricultural Marketing Act (AMA) of 1946 (60 Stat. 1087-1091, as amended; 7 U.S.C. 1621-1627) directs and authorizes the Department to develop standards of quality, grades, grading programs, and services to enable a more orderly marketing of agricultural products so trading may be facilitated and so consumers may be able to obtain products graded and identified under United States Department of Agriculture programs. The Agricultural Marketing Service (AMS) carries out regulations that provide a voluntary program for grading shell eggs on the basis of U.S. standards, grades, and weight classes. In addition, the shell egg industry and users of the products have requested that other types of voluntary services be developed and provided under these regulations. This program is voluntary where respondents would need to request or apply for the specific service they wish.

Need and Use of the Information: Authorized representatives of the Department of Agriculture use the information to administer, conduct and carry out the grading services requested by the respondents. If the information were not collected, the agency would not be able to provide the voluntary grading service authorized and requested by Congress, provide the types of services requested by industry, administer the program, ensure properly grade-labeled products, calculate the cost of the service or collect for the cost furnishing service.

Description of Respondents: Business or other for profit; Federal Government; State, Local or Tribal Government.

Number of Respondents: 625.

Frequency of Responses: Reporting: On occasion; Semi-annually; Monthly; Annually; Other (daily).

Total Burden Hours: 5,608.

Animal and Plant Health Inspection Service

Title: Poultry and Pork Products Transiting the United States.

OMB Control Number: 0579-0145.

Summary of Collection: The United States Department of Agriculture (USDA), Animal & Plant Health Inspection Service (APHIS) is responsible for controlling and eliminating domestic animal diseases such as brucellosis and scrapie, as well as preventing the introduction of exotic animal diseases such as hog cholera, exotic Newcastle disease (END) and other foreign diseases. Title 21, United States Code (U.S.C.) authorizes sections 111, 114, 114a, 114-1, 115, 120, 121, 125, 126, 134a, 134c, 134f, and 134g, which permits the Secretary of Agriculture to take these actions. Disease prevention is the most effective method for maintaining a healthy animal population and enhancing the United States' ability to compete in exporting animals and animal products. APHIS has determined that fresh pork and pork products, as well as poultry carcasses, parts and products from Mexican States can transit the United States with minimal risk of introducing hog cholera or END. By allowing these products from certain Mexican States to transit the United States necessitates the use of several activities, which include the completion of an import permit application, the placement of serial numbered seals on product containers, and the forwarding of a written, pre-arrival notification to APHIS port personnel.

Need and Use of the Information: APHIS will collect information to ensure that these products and parts from Mexico pose a negligible risk of introducing hog cholera and END into the United States. APHIS will also collect the name, address of the exporter, the origin and destination points of entry, the date of transportation, the method and route of shipment, the time and date the items are expected to arrive at the port, how long the items are expected to be in the United States, the permit number of the shipment, and the serial numbers of the seals on the shipment containers. If the information is not collected, it would make disease incursion event much more likely, with potentially devastating affects on the U.S. swine and poultry industries.

Description of Respondents: Business or other for-profit; Farm; Individual or households; Not-for-profit institutions; Federal Government; State, Local or Tribal Government.

Number of Respondents: 25.

Frequency of Responses: Reporting: On occasion.

Total Burden Hours: 572.

Food and Nutrition Service

Title: WIC Financial Management and Participation Report with Addendum.

OMB Control Number: 0584-0045.

Summary of Collection: The Women, Infants and Children Program (WIC) is authorized by Section 17 of the Child Nutrition Act (CNA) of 1966 (42 U.S.C. 1786), as amended. The Food and Nutrition Service (FNS) of USDA administers the WIC Program by awarding cash grants to State agencies. The State agencies award subgrants to local agencies to deliver program benefits and services to eligible participants. State agencies complete the FNS-798 to comply with two separate legislative requirements. FNS has added a new data element, migrant participation to the FNS-798. Migrant participation refers to the average number of migrant farm-worker household members who participated in the WIC Program during the most recent 12-month period beginning in July and ending in June. FNS must continue to collect migrant participation data annually to comply with section 17(g)(4) of the Child Nutrition Act (CAN) of 1966 (42 U.S.C. 1786, as amended).

FNS uses FNS-798-A addendum to determine if each State agency has met its statutory nutrition education and breastfeeding promotion and support minimum expenditure requirements.

Need and Use of the Information: FNS will use the information reported each month for program monitoring, funds allocation and management, budget projections, monitoring caseload, policy development, and responding to requests from Congress and the interested public. FNS also uses the data to determine if the State has met the 97 percent performance standard for food and 10 percent performance standard for Nutrition Services Administration. FNS will use migrant participation data to monitor the success of efforts to provide WIC services to migrant populations, and to project a minimum funding amount that State agencies might expect to expend for this purpose based on the prior year's experience.

Description of Respondents: State, Local, or Tribal Government.

Number of Respondents: 88.

Frequency of Responses: Reporting: Monthly.

Total Burden Hours: 4,638.

Animal and Plant Health Inspection Service

Title: Domestic Quarantines.

OMB Control Number: 0579-0088.

Summary of Collection: Chapter 8 of the Plant Quarantine Act (U.S.C. 161) provides authority for the Secretary of Agriculture to quarantine any State, Territory, or District of the United States to prevent the spread of insect infestation and diseases new to or not widely distributed throughout the United States. The Domestic Quarantines (7 CFR Part 301) are issued under this authority. Implementing these quarantines often requires us to collect information from a variety of individuals who are involved in growing, packing, handling, transporting, and exporting of plants and plant products. The information collected from these individuals is vital to helping ensure that injurious plant diseases and insect pests do not spread within the United States. Information to be collected is necessary to determine compliance with domestic quarantines. Federal/State domestic quarantines are necessary to regulate the movement of articles from infested areas to noninfested area. Collecting information requires the use of a number of forms and documents. The Animal and Plant Health Inspection Service (APHIS) will collect information using various forms and documents.

Need and Use of the Information: APHIS will collect information by interviewing growers and shippers at the time the inspections are being conducted and by having growers and shippers of exported plants and plant products complete an application for a transit permit. Information is collected from the growers, packers, shippers, and exporters of regulated articles to ensure that the articles, when moved from a quarantined area, do not harbor injurious plant diseases and insect pests. The information obtained will be used to determine compliance with regulations and for issuance of forms, permits, certificates, and other required documents.

Description of Respondents: Business or other for-profit; Farm; Individuals or households; Farms; Federal Government; State, Local or Tribal Government.

Number of Respondents: 180,000.

Frequency of Responses: Recordkeeping; Reporting: On occasion.

Total Burden Hours: 87,647.

Food and Nutrition Service

Title: Nutrition Education for Food & Nutrition Service Population Groups.

OMB Control Number: 0584-NEW.

Summary of Collection: Diet has a significant impact on the health of citizen and is linked to four leading causes of disease, which can reduce the quality of life and cause premature death. While these diet-related problems affect all Americans, they have a greater impact on the disadvantaged populations reached by many of the Food and Nutrition Service Programs (FNS). One of FNS' goals includes improving the nutrition of children and low-income families by providing access to program benefits and nutrition education in a manner that supports American agriculture and inspires public confidence. The information collection is based on the Children Nutrition Act of 1966, as amended, the National School Lunch Act of 1966, as amended, the Food Stamp Act of 1977, as amended, the Agriculture and Consumer Protection Act of 1973, as amended, and the Emergency Food Assistance Act of 1983, as amended. The Eat Smart Play Hard (ESPH) Campaign is a multi-phase nutrition education and promotion program geared particularly towards children, including their caregivers, who are eligible for FNS nutrition assistance programs. Phase I of the ESPH will consist of a spokes character with accompanying posters, brochures, activity sheets, and a kit of promotional materials. For Phase II of ESPH Campaign, FNS will develop additional messages and materials for a subsection of children and caregivers group, an interactive children's Internet Web site, and convert existing English education materials to appropriate language and culture for Hispanic audiences. FNS will also develop nutrition education and promotion materials for mothers with 2-18-year-old children in low-literacy and Spanish-speaking population. The educational materials and promotional vehicles will serve as an important means to formulate and relay behavioral and motivational messages encompassed by the Dietary Guidelines for Americans.

Need and Use of the Information: FNS will collect information through interviews or written responses. The information collected will provide FNS with formative input and feedback on how best to reach and motivate preschool and school-age children, caregivers, Hispanic audiences as well as low-literacy groups to make changes consistent with the new Dietary Guidelines for Americans. FNS will also use the information collected to develop program materials to motivate the target audience to change their nutrition and physical activity-related behavior.

Description of Respondents: Individuals or households; Federal Government; State, Local, or Tribal Government.

Number of Respondents: 6,192.

Frequency of Responses: Reporting: Other (one-time).

Total Burden Hours: 3,538.

Agricultural Marketing Service

Title: California Prune/Plum Tree Removal Program—Section 32—Final Rule.

OMB Control Number: 0581-0201.

Summary of Collection: The authority to implement the California Prune/Plum Diversion Program or “tree pull” is established under (3) Section 32 of the Act of August 24, 1935, as amended (7 U.S.C. 612c) (“Section 32”). The Prune Diversion Program is administered under the supervision of the Agriculture Marketing Service. The Prune Marketing Committee (PMC) is the agency responsible for locally administering the Federal Marketing Order for California prunes. Requirements of this program apply only to those growers who voluntarily participate in the tree removal program. The information provided by the participants is essential to carry out the program and to administer release of payments.

Need and Use of the Information: To meet program requirements, producers are required to fill out two forms, FV-298, Application for Prune Tree Removal Program, and FV-299, Tree Removal Notice and Verification Form. Form FV-298 collects information on the producer, the person completing the application, the number of trees to be removed, acreage, and past production. Form FV-299 provides PMC with the number of trees the producer agrees to remove. AMS and PMC use the information gathered from these forms to determine payment calculation and certify participation in the program.

Description of Respondents: Business or other for-profit; Farms.

Number of Respondents: 481.

Frequency of Responses: Recordkeeping; Reporting: Annually.

Total Burden Hours: 250.

Agricultural Marketing Service

Title: Vidalia Onions grown in Georgia, M.O. No. 955.

OMB Control Number: 0581-NEW.

Summary of Collection: Marketing Order No. 955 (7 CFR Part 955) covers the handling of Vidalia onions grown in Georgia. This order is effective under the Agricultural Marketing Agreement Act of 1937, as amended (7 U.S.C. 601-674). The changes in the order for reporting requirements would allow the Committee to obtain shipment reports from handlers on a weekly basis rather than monthly and would increase the amount of information requested. These changes would provide the Committee with an earlier indication of problems with late compliance, thus reducing the problems currently experienced with late reporting.

Need and Use of the Information: The handlers will use FV-181, “Vidalia Onion Handlers Report Form,” to inform the Committee of their weekly receipts and shipments of Vidalia onions during the season. The Committee will use the information to ensure compliance with order regulations and assist in oversight and planning. Only authorized representatives of USDA will use the information. Without the handler reports, the Committee would not be able to collect assessments and provide for daily oversight of the order's operation.

Description of Respondents: Business or other for-profit; Farms.

Number of Respondents; 109.

Frequency of Responses: Recordkeeping; Reporting: Weekly.

Total Burden Hours: 136.

Sondra A. Blakey,
Departmental Information Collection Clearance Officer.

[FR Doc. 02-13874 Filed 6-3-02; 8:45 am]

BILLING CODE 3410-01-M